DEPARTMENT OF EDUCATION

National Institute on Disability and Rehabilitation Research—Disability and Rehabilitation Research Projects and Centers Program—Disability Rehabilitation Research Projects (DRRPs); Funding Priorities

AGENCY: Office of Special Education and Rehabilitative Services, Department of Education.

ACTION: Notice of final priorities.

SUMMARY: The Assistant Secretary for Special Education and Rehabilitative Services announces certain final priorities for the Disability and Rehabilitation Research Projects and Centers Program administered by the National Institute on Disability and Rehabilitation Research (NIDRR). Specifically, this notice announces two priorities—a priority for the Disability Business Technical Assistance Centers (DBTACs) and a priority for the Disability Business Technical Assistance Center Coordination, Outreach, and Research Center (DBTAC CORC). The Assistant Secretary may use these priorities for competitions in fiscal year (FY) 2006 and later years. We take this action to focus research attention on areas of national need. We intend these priorities to improve rehabilitation services and outcomes for individuals with disabilities.

DATES: Effective Date: These priorities are effective July 10, 2006.

FOR FURTHER INFORMATION CONTACT: Donna Nangle, U.S. Department of Education, 400 Maryland Avenue, SW., room 6030, Potomac Center Plaza, Washington, DC 20202-2700. Telephone: (202) 245-7462 or via Internet: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP program is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Rehabilitation Act of 1973, as amended. DRRPs carry out one or more of the following types of activities, as specified and defined in 34 CFR 350.13 through 350.19: Research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

We published a notice of proposed priorities (NPP) for NIDRR's Disability and Rehabilitation Research Projects and Centers Program, including the DRRP program, in the Federal Register on February 7, 2006 (71 FR 6318). The NPP included a background statement that described our rationale for each priority proposed in that notice.

This notice of final priorities (NFP) addresses 2 of the 15 priorities proposed in the NPP. The priorities addressed in this NFP are as follows:

• Disability Business Technical Assistance Centers (DBTACs) (a DRRP, designated as Priority 10 in the NPP).

• Disability Business Technical Assistance Center Coordination, Outreach, and Research Center (DBTAC CORC) (a DRRP, designated as Priority 11 in the NPP).

Because of the volume of comments received in response to the NPP, NIDRR has published two other separate notices of final priorities for the other 12 priorities proposed in the NPP (i.e., those priorities designated as Priorities 1 through 9 and 13 through 15 in the NPP). More information on these other priorities and the projects and programs that NIDRR intends to fund in FY 2006 can be found on the Internet at the following site: http://www.ed.gov/fund/grant/apply/nidrr/priority-matrix.html.

This NFP contains several changes from the NPP in both priorities. We fully explain these changes in the Analysis of Comments and Changes section that follows.

Analysis of Comments and Changes

In response to our invitation in the NPP, 606 parties submitted comments on the proposed priorities addressed in this NFP.

An analysis of the comments and the changes in the priorities since publication of the NPP follows.

In their responses to the NPP, many commenters failed to specify whether their comments addressed one or both of the proposed priorities. In addition, many comments concerned the relationship between the DBTACs and the DBTAC CORC and, therefore, relate to both priorities. In reviewing the comments received, we determined that the comments could be organized into the following general categories: (1) DBTACs and Core Functions, (2) Research and Research Requirements, and (3) Other. Therefore, we have organized the Analysis and Comments and Changes section using these three categories.

Of the 606 comments received, the majority of comments (597) expressed concerns about the structure of the DBTACs and the proposed changes to the DBTAC's activities; these concerns included questions related to the core functions of the currently funded DBTACs and NIDRR's proposal to require DBTACs to conduct research. We address these comments under the categories DBTACs and Core Functions and Research and Research Requirements. In addition, several commenters raised issues relating to technology, resource allocation, underserved populations, use of the name DBTAC, interagency coordination and collaboration and other concerns. We address these comments under the heading Other.

Generally, we do not address technical and other minor changes, or suggested changes the law does not authorize us to make under the applicable statutory authority. In addition, we do not address general comments that raised concerns not directly related to the proposed priorities.

General

The final priorities announced in this NFP are designed to align the DBTAC and DBTAC CORC activities with NIDRR's mission by requiring grantees to conduct scientifically based research and to use evidence-based practices. Consistent with NIDRR's Final Long-Range Plan for FY 2005-2009 (Plan), NIDRR is establishing these priorities to restructure and strengthen the DBTAC program, and to further enable program grantees to make significant impacts on disability and rehabilitation outcomes through scientifically based research.

DBTACs and Core Functions

Comment: Many commenters stated opposition to what they believed amounted to a discontinuance of the DBTAC program, and urged NIDRR to retain the program.

Discussion: NIDRR has not proposed to eliminate the DBTAC program. The proposed DBTACs priority is designed to expand the existing DBTAC program by aligning the mission of the program with NIDRR's mission of improving the lives of people with disabilities through research.

Changes: None.

Comment: Some commenters urged NIDRR to maintain the core functions of the DBTACs; these core functions are defined as information and referral, technical assistance, training, and dissemination of information on all titles of the Americans with Disabilities Act of 1990, as amended (ADA).

Discussion: The proposed DBTACs priority requires grantees to perform the core activities carried out under the existing DBTAC program. NIDRR believes that these activities are critical for DBTACs to help ensure full implementation of the ADA. NIDRR expects all grantees funded under the DBTACs priority to use their grant award to support activities that are consistent with the goals and purposes of all titles of the ADA.

Changes: None.

Research and Research Requirements

Comment: Several commenters expressed concern that the research component of the proposed DBTACs priority is being restricted exclusively to employment-related research.

Discussion: While NIDRR believes that, given their relationships with both the business and disability communities, the DBTACs are uniquely positioned to conduct research on critical disability employment questions, NIDRR does not expect that DBTAC studies will be restricted to employment-related research. Consistent with the Plan, NIDRR establishes research priorities under specific research domains. The DBTAC activities support research in the employment domain and in the community living/participation domain (for more information on these domains, see the Plan). The proposed DBTACs priority provides for studies related to all titles of the ADA, and a range of other research topics, including technology and postsecondary education, technology and school-to-work transition, employment, and participation/community living.

Changes: None.

Comment: Some commenters were particularly concerned that the proposed DBTACs priority would shift too much of the DBTACs' focus to employment outcomes and to research. Other commenters suggested that by requiring DBTACs to conduct research, DBTACs would be forced to use limited funds and staff to conduct research activities, which would result in a dilution of resources for other activities that are core functions of the currently funded DBTACs. Many of these commenters recommended that NIDRR specify the percentage of DBTAC funding that DBTACs should devote to research activities.

Discussion: NIDRR does not agree that the proposed DBTACs priority would shift too much of the focus to employment outcomes and to research. As stated elsewhere in this NFP, NIDRR has included research in the DBTACs priority in order to align the DBTAC program with NIDRR's overall mission. When addressing the research requirements of the DBTACs priority, NIDRR expects that grantees will consult with and receive expert technical assistance from the DBTAC CORC. Coordination with the DBTAC CORC will help ensure that DBTAC funds and resources devoted to research activities are used efficiently. In addition, the DBTAC CORC will help ensure that DBTACs conduct scientifically based studies by providing them with significant support in research planning and development, and on-going technical assistance.

NIDRR does not prescribe specific funding amounts or allocations of project budgets in the proposed DBTACs and DBTAC CORC priorities. While we believe that the required DBTACs research activities would require grantees to devote at least fifteen percent of their project funds to research activities, NIDRR will determine whether the proposed amount is appropriate based on the nature and scope of the research activities to be performed.

Changes: None.

Comment: Commenters questioned the new focus of the DBTACs on research. A large number of these commenters recommended that the DBTAC CORC be primarily responsible for research.

Discussion: NIDRR does not agree that the DBTAC CORC should have primary responsibility for research. The proposed DBTACs priority requires that research activities involve a collaborative partnership between the DBTAC CORC and the regional DBTACs. The proposed DBTAC CORC priority requires the DBTAC CORC to collaborate and consult with each regional DBTAC to achieve this goal. NIDRR expects that regional DBTACs will each have a focused program of research that is supported by the DBTAC CORC. Consistent with the proposed DBTAC CORC priority, the DBTAC CORC would have primary responsibility for systematic reviews and analyses of data and products submitted by the regional DBTACs. In addition, the DBTAC CORC would be responsible for reviewing regional DBTAC research proposals. As explained in the Background statement for the proposed DBTAC CORC priority in the NPP, the details regarding the administration of the required DBTAC CORC activities will be specified in the Department's cooperative agreement with the grantee that receives an award under this priority.

Changes: None.

Comment: Commenters requested clarification on how NIDRR envisions the respective roles of the DBTACs and the DBTAC CORC in research activities.

Discussion: Under the proposed DBTAC CORC priority, the DBTAC CORC is expected to take the lead role in facilitating the development of a coordinated national research agenda for the DBTACs. Under the DBTACs priority, each DBTAC grantee must participate in and conduct research; at a minimum, DBTAC grantees are expected to conduct small research projects.

NIDRR envisions a two-stage process for regional DBTAC research activities. The first stage will involve regional DBTAC preparation and submission of a preliminary research proposal that includes a brief description of a proposed research plan identifying topic(s), methodology, and expected outcomes to the DBTAC CORC. NIDRR expects that these preliminary research proposals will be further informed by systematic reviews and analyses by the DBTAC CORC. In the second stage, the DBTAC CORC will assess the merits of each research proposal and provide ongoing, expert technical assistance to each regional DBTAC. The DBTAC CORC Review Board, which will be composed of expert advisor(s), a methodology consultant, a research consortium coordinator, and research analysts, will support these activities. The DBTAC CORC Review Board will review research proposals submitted by the DBTACs, as well as DBTAC plans for new research activities, products, and publications. NIDRR envisions that the DBTAC CORC will support the regional DBTACs' research by using its expertise as well as the data provided by the regional DBTACs to generate research questions and hypotheses for DBTAC research.

Similar to the regional DBTACs, the DBTAC CORC must also conduct research. NIDRR expects that the research conducted by the DBTAC CORC will complement research activities being implemented as part of the national DBTAC research agenda.

We believe that the proposed priorities require some additional information to clarify the responsibilities of and the relationship between the DBTAC CORC and the regional DBTACs.

Changes: NIDRR has revised the DBTACs and the DBTAC CORC priorities to provide more information on how NIDRR envisions the implementation and coordination of DBTAC and DBTAC CORC research-related activities, particularly the responsibilities and processes for collaboration and research capacity building. In an effort to clarify the research component of the DBTACs' priority, we have changed the order of the requirements and have included, in paragraphs (e), (f), and (g), additional information about the research-related responsibilities of the DBTACs and the DBTAC CORC, including the responsibility of all centers to collaborate. In addition, we have revised paragraphs (c), (d), and (e) of the DBTAC CORC priority to provide more information about DBTAC CORC research requirements and the requirements relating to DBTACs' research and collaboration. A more detailed description of the changes follows:

We have revised paragraph (e) of the DBTACs' priority and paragraph (e) of the DBTAC CORC priority to clarify the two-stage process for the submission of preliminary research proposals by the DBTACs, the DBTAC CORC's review of DBTAC research proposals, and the provision of technical assistance and support by the DBTAC CORC to assist DBTACs with achievement of expected outcomes and to identify areas of potential collaborative research. These paragraphs also have been revised to clarify the responsibility of the DBTACs to conduct rigorous research beginning in the second year of the project and the requirement that the DBTAC CORC provide on-going technical assistance and support to the DBTACs to help ensure that the DBTACs' research is scientifically based and of high quality.

We have moved and revised paragraph (h) of the proposed DBTACs priority. The paragraph, now designated as paragraph (f), has been revised to clarify that DBTACs are responsible for providing their program data and findings to the DBTAC CORC so that the DBTAC CORC can produce evidence reports, identify gaps in the research agenda where new or additional research is warranted, conduct relevant research, assist with an enhanced understanding of ADA compliance and implementation issues on a national level, and generate topics for a national DBTAC research agenda. We also have revised this paragraph to clarify that the specific research to be conducted by the individual DBTACs will be determined through coordination between the DBTAC and the DBTAC CORC.

We have revised paragraph (f) of the proposed DBTACs priority (now designated as paragraph (g)) to clarify that DBTACs will collaborate with, and receive support from, the DBTAC CORC Review Board as they evaluate and disseminate their research-based information.

We have revised paragraphs (c) and (d) of the DBTAC CORC priority to clarify the research requirement for the DBTAC CORC and to provide more information about the DBTAC CORC Review Board. We clarified who will serve on the DBTAC CORC Review Board and what functions the board will perform. The board must be composed of expert advisor(s), a methodology consultant, a research consortium coordinator, and research analysts. The board will review DBTAC research proposal plans for new research activities, products, and publications; assist to identify and recommend research activities that are best conducted via collaborative research; and conduct systematic reviews of the DBTAC research.

Comment: One commenter asked NIDRR to clarify the roles and responsibilities between the DBTACs and the DBTAC CORC in collecting and analyzing research. For example, the commenter specifically asked if NIDRR intends that the DBTAC CORC will be responsible for analyzing data that DBTACs collect, or if DBTACs will be required to complete the entire research process for their studies.

Discussion: For each research study conducted by a DBTAC using DBTAC funding, NIDRR intends that the regional DBTAC responsible for the study will collect and analyze the research study data, consistent with scientifically based research standards and procedures. All DBTACs are required to conduct research. Nothing in the DBTACs priority, however, prohibits DBTACs from proposing joint studies that they can conduct with other DBTACs. If DBTACs are engaging in joint studies, at least one of the DBTACs must be responsible for collecting and analyzing research study data.

Changes: None.

Comment: One commenter suggested that other NIDRR-funded entities specializing in disability research, such as the Rehabilitation Research and Training Centers (RRTCs), should be required to conduct the research that NIDRR proposes to include as part of the DBTACs priority. This commenter also stated that NIDRR should not change the service structure of the DBTACs to include a research component.

Discussion: NIDRR does not agree with this comment and believes that it is critical to align the DBTACs with NIDRR's overall research mission. Both the DRRP and RRTC program mechanisms have unique, valued features. In general, the DRRP mechanism offers a more flexible vehicle to support certain research and training objectives than the RRTC mechanism. DRRPs may include research, demonstration projects, training, and related activities that help maximize the full inclusion and integration of individuals with disabilities into society and improve the effectiveness of services authorized under the Rehabilitation Act of 1973, as amended. Consistent with NIDRR's mission, NIDRR-funded entities specializing in disability research are required to conduct research. Accordingly, NIDRR expects that grantees funded under the DBTACs and DBTAC CORC priorities, both of which are priorities funded under the DRRP program, will conduct research.

Changes: None.

Comment: One commenter stated that each of the 10 geographically dispersed DBTACs have unique strengths, and expressed a concern that requiring them all to conduct research would make it difficult to maintain consistency and ensure high quality services and products. Further, the commenter recommended that NIDRR support a national research center to be responsible for the information technology assistance and support previously provided to DBTACs so that the services would be integrated into a central location.

Discussion: NIDRR agrees that consideration must be given to the fact that the skills of the researchers at each DBTAC may differ, and that coordination among regional DBTACs is needed. NIDRR expects that the DBTAC CORC will provide a wide range of support and technical assistance, including significant support to the regional DBTACs in research planning and development activities. The DBTAC CORC is expected to provide support and ongoing technical assistance to the regional DBTACs for the duration of their project periods. NIDRR believes that the DBTAC CORC activities and the expertise of the DBTAC CORC Review Board will help to build research capacity across regional DBTAC projects and help ensure that the DBTACs conduct scientifically based research that meets the highest possible standards of quality.

NIDRR also agrees that coordination of research activities for the 10 regional DBTACs is critical. Therefore, NIDRR expects that the DBTAC CORC will centralize some aspects of DBTAC operations as well as facilitate coordination among the DBTACs by establishing a coordinated national DBTAC research agenda.

Changes: None.

Comment: Several commenters suggested that adding a research component to the DBTAC program would duplicate NIDRR's other research efforts. Some commenters also stated that the proposed DBTAC CORC would duplicate the efforts of NIDRR's current National Center on the Dissemination of Disability Research (NCDDR).

Discussion: It is true that NIDRR supports research on many aspects of employment, participation and community living. Nonetheless, NIDRR believes that a more focused ADA research agenda that is directly associated with the DBTAC program will strengthen research capacity and further improve our understanding about disability and rehabilitation outcomes for individuals with disabilities, particularly how those outcomes can be enhanced through identification of impediments to compliance with the ADA. That said, NIDRR does not intend to fund research that is truly duplicative of current or recent NIDRR-funded studies and projects. Accordingly, NIDRR encourages applicants to become familiar with NIDRR's current and recent research portfolio to avoid proposing redundant studies.

NIDRR also does not believe that the DBTAC CORC will duplicate the efforts of the NCDDR. NCDDR supports the translation and dissemination of much of the research supported by NIDRR, but it has a specific work scope defined in its grant. (For more information about NCDDR go to http://www.ncddr.org.) The NCDDR is not positioned to take on new research or products from an innovative and targeted program such as the DBTAC program.

Changes: None.

Comment: One commenter asked NIDRR to clarify whether “rigorous research activities” include the assessment of technical assistance, training, and information dissemination outcomes in addition to more traditional intervention research.

Discussion: It is not entirely clear what the commenter means by traditional intervention research. NIDRR intends that all DBTAC research activities, including components that address the assessment of technical assistance, training, and information dissemination outcomes, will adhere to research standards and use scientifically based approaches consistent with defensible methodological standards. Paragraph (g) of the DBTACs priority requires that DBTACs adhere to standards and guidelines that are consistent with evidence-based practices for research dissemination and evaluation (see http://www.cebm.net, http://www.cochrane.org, www.campbellcollaboration.org/guide.flow.pdf, http://www.ngc.gov, http://www.science.gov).

Changes: None.

Comment: One commenter recommended that the priorities include indicators, such as process measures, in addition to outcome measures.

Discussion: NIDRR has organized the DBTACs and DBTAC CORC priority requirements around programmatic outcomes. We believe that this approach supports the assessment of programmatic outcomes and is consistent with the logic model framework, as outlined in the Plan, as well as the Department of Education's desire to enhance accountability and demonstrate results. While NIDRR recognizes the value of indicators such as process measures, it does not believe that it is necessary to require all applicants to establish indicators.

Changes: None.

Other

Comment: Several commenters asked what is meant by the term “technology”, as it is used in the priorities, and wanted to know whether we intend for the term to refer to assistive technology (AT), information technology, or both.

Discussion: As used in the DBTACs and DBTAC CORC priorities, NIDRR intends for the term “technology” to refer to AT, as defined in the Rehabilitation Act of 1973, as amended. The term refers to AT devices or AT services, and may include IT. According to section 7(3) of the Rehabilitation Act, the term AT device has the meaning given to the term in section 3 of the Assistive Technology Act of 1998; that is, “any item, piece of equipment, or product system, whether acquired commercially, modified, or customized, that is used to increase, maintain, or improve functional capabilities of individuals with disabilities.”

The term AT service, as, as defined in section 7(4) of the Rehabilitation Act means “any service that directly assists an individual with a disability in the selection, acquisition, or use of an assistive device” (see Section 3(5) of the Assistive Technology Act of 1998 (29 U.S.C. 3002) for more information on services that are considered AT services). As used in these priorities, therefore, the term technology could refer to information technology as long as the information technology would be considered AT, as defined in the Rehabilitation Act of 1973, as amended.

Changes: None.

Comment: One commenter expressed difficulty understanding the relationship between employment outcomes and the ADA. Another commenter recommended that the priority be revised to state: “NIDRR recognizes that many elements of ADA implementation impact employment outcomes * * *”.

Discussion: NIDRR believes that many elements of ADA implementation affect employment outcomes for individuals with disabilities. Grantees under the DBTACs priority are required to develop research proposals with research questions or hypotheses that are consistent with standard research practices. Accordingly, grantees can propose research questions or hypotheses that are designed to examine the relationship between the ADA and employment outcomes for individuals with disabilities.

Changes: None.

Comment: One commenter recommended that the DBTACs priority require DBTACs to partner with other federally funded programs, such as the Ticket to Work Program.

Discussion: The DBTACs priority requires each DBTAC to collaborate with the DBTAC CORC and other DBTACs. The priority also requires DBTACs to develop and apply effective coordination strategies within the network of relevant NIDRR RRTCs, Rehabilitation Engineering Research Centers, DRRPs, NIDRR-funded knowledge translation and dissemination centers, employers, industries, community entities, and federally funded programs, such as the Rehabilitation Services Administration AT State grants. NIDRR does not believe that it is appropriate to require grantees to participate in the type of partnership activities recommended by the commenter. That said, nothing in the priority prohibits an applicant from proposing these partnership activities.

Changes: None.

Comment: One commenter stated that paragraph (b) of the proposed DBTACs priority is shortsighted in that it does not recognize other important aspects of full implementation of the ADA, including facility accessibility, accessible transportation, and effective communication. According to the commenter, because all aspects of ADA implementation are addressed in the outcome described in paragraph (a) of the proposed priority, paragraph (b) should be removed.

Discussion: NIDRR believes that the outcome described in paragraph (b) of the DBTACs priority is qualitatively different from the outcome described in paragraph (a) of the priority. The outcome described in paragraph (a) is broadly identified as an improved understanding about the rights and responsibilities under the ADA, as well as developments in case law, policy, and implementation. In paragraph (b), NIDRR intends to emphasize improved employment outcomes for individuals with disabilities in high growth industries. NIDRR believes it is necessary to emphasize this outcome to ensure that the DBTAC activities adequately address those industries that are potentially best situated to increase employment options and opportunities for individuals with disabilities.

Changes: None.

Comment: One commenter recommended that existing DBTAC databases and document portals be consolidated under the control of the DBTAC CORC and that paragraph (a) of the proposed DBTAC CORC priority be revised to reflect this recommendation.

Discussion: NIDRR agrees with this commenter, and intends for the DBTAC CORC to serve as a national repository for DBTAC information and products, including data products and the content of previously funded ADA document portals and Web sites, and project and national DBTAC databases. For example, NIDRR intends for the DBTAC CORC to maintain the contents and functions of the ADA Document Portal and National DBTAC databases that currently exist, such as the ADA Impact Measurement System (AIMS) project databases and the national DBTAC Outcomes Databases, and other regional and national project databases.

Changes: We have revised paragraph (a) of the DBTAC CORC priority to require the DBTAC CORC to serve as the central repository for DBTAC information and products, and to be responsible for the maintenance of data products and the content of previously funded ADA document portals and Web sites, and project and national DBTAC databases.

Comment: One commenter recommended that NIDRR revise the outcome in paragraph (i) of the DBTAC CORC priority to focus on the ADA instead of “the state of the science.” The commenter also recommended that NIDRR revise the priority to require a “state of the ADA conference,” and to encourage broad attendance at the conference by NIDRR grantees involved in applicable research as well as practitioners from the field, Federal agencies, and consumers.

Discussion: NIDRR believes that the annual conference hosted by the DBTAC CORC should focus on an enhanced understanding of the “state of the science,” because a focus on the “state of the science” is more comprehensive than a narrow focus on the state of the ADA. As used in the DBTAC CORC priority, NIDRR intends for the term “state of the science” to refer to the current state of scientific evidence available on particular topics, such as those identified in the priority or those topics relating to all titles of the ADA, and the evaluation of the latest research findings in these topic areas. With regard to the commenter's second point, nothing in the priority precludes the DBTAC CORC from inviting the groups identified by the commenter to the annual conference it will host in accordance with paragraph (i) of the priority.

Changes: None.

Comment: One commenter recommended that NIDRR require all centers funded under the DBTACs priority to identify themselves with names that include the term “DBTAC” as the primary identifier. The commenter noted that it is difficult to locate DBTAC resources without the use of a common name. Another commenter requested that NIDRR change the name of the centers to be supported under the DBTACs priority, because adding a research focus to the priority is not consistent with the DBTAC history of service and is misleading to the public.

Discussion: NIDRR agrees that a common name for DBTAC grantees would be beneficial. NIDRR also agrees that the DBTAC program has a long and distinguished history of services and wishes to maintain this tradition, as well as the DBTAC program name. Accordingly, NIDRR expects all entities funded under the DBTACs priority to support name recognition for the DBTAC program by identifying themselves as DBTAC projects with the term DBTAC prominently displayed in their project names. NIDRR expects grantees to adopt project names that use the following format: DBTAC—[Insert entity title or project name, region or other identifying information].

NIDRR does not agree that the DBTAC name should be changed. The DBTACs priority requires that the core functions of the DBTAC program be maintained. Adding the research component to the priority neither detracts from nor diminishes the quality of service to be provided by the DBTACs. Instead, NIDRR believes that requiring research-related activities will help to ensure that services and interventions delivered by DBTACs are the most effective and relevant to meet the needs of the individuals and communities they serve.

Changes: NIDRR has revised the DBTACs priority by adding paragraph (j) to clarify that a desired outcome of the project is to improve awareness, outreach, and access to DBTAC services by enhancing the name recognition of the DBTAC program. Specifically, the newly added paragraph requires grantees to use the term DBTAC as a primary identifier in project titles and specifies the naming convention format that must be used by all DBTACs.

Comment: One commenter asked if the DBTAC CORC will be the only entity producing evidence reports. The commenter also asked what DBTAC data the DBTAC CORC will analyze.

Discussion: The DBTAC CORC priority requires the DBTAC CORC to produce evidence reports. There is nothing in either the DBTACs or DBTAC CORC priorities to preclude regional DBTACs from generating or producing their own evidence reports provided that those reports are consistent with their project activities.

With regard to the commenter's second point, the DBTAC CORC is responsible for conducting rigorous analyses of regional DBTAC data to accomplish the programmatic outcomes identified in the DBTAC CORC priority. The regional DBTACs and DBTAC CORC are required to collaborate on identification of data analysis needs.

Changes: None.

Comment: One commenter suggested that it would be a conflict of interest for a single entity to be awarded both a regional DBTAC grant and the DBTAC CORC grant, and encouraged NIDRR to fund separate entities under these priorities.

Discussion: NIDRR intends to conduct an open competition for the DBTAC CORC, and will not prohibit applicants for a regional DBTAC from applying under the DBTAC CORC competition. NIDRR intends to award DBTAC CORC funds under a cooperative agreement that will outline specifications for administration of the required DBTAC CORC activities. NIDRR will closely examine conflict of interest issues.

Changes: None.

Comment: One commenter stated that many DBTACs maintain bilingual staff in order to address the needs of individuals who do not speak English, and suggested that a shift in focus may eliminate the DBTAC's ability to address the needs of non-English speaking populations.

Discussion: The DBTACs priority does not prohibit projects from addressing the needs of non-English speaking populations. In accordance with section 350.40 of the Disability and Rehabilitation Research Projects and Centers Program regulations, all applicants are required to demonstrate in their application how they will meet the needs of minority populations; this includes linguistic minorities. Additionally, in accordance with Federal law, the application must outline non-discrimination hiring policies. The DBTACs priority in no way prevents or prohibits projects from maintaining bilingual staff.

Changes: None.

Comment: None.

Discussion: NIDRR believes that DBTAC and DBTAC CORC collaboration with other relevant federally funded programs will enhance the coordination of information dissemination and promote the use of research findings across relevant Federal programs.

Changes: We have revised proposed paragraph (g) of the DBTACs priority (paragraph (h) in the final priority announced in this NFP) and paragraph (f) of the DBTACs CORC priority to include other federally funded programs, such as the Rehabilitation Services Administration (RSA) Assistive Technology (AT) State grants, among the entities with which the DBTACs and the DBTAC CORC must coordinate.

Note: This notice does not solicit applications. In any year in which we choose to use these proposed priorities, we invite applications through a notice in the Federal Register. When inviting applications we designate the priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: This NFP is in concert with President George W. Bush's New Freedom Initiative (NFI) and the Plan. The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to—(1) Improve the quality and utility of disability and rehabilitation research; (2) Foster an exchange of expertise, information, and training to facilitate the advancement of knowledge and understanding of the unique needs of traditionally underserved populations; (3) Determine best strategies and programs to improve rehabilitation outcomes for underserved populations; (4) Identify research gaps; (5) Identify mechanisms of integrating research and practice; and (6) Disseminate findings.

Disability Business Technical Assistance Centers (DBTACs) Priority: The Assistant Secretary for Special Education and Rehabilitative Services establishes, under its Disability Rehabilitation Research Projects program, a priority for the funding of 10 Disability and Business Technical Assistance Centers (DBTACs), 1 within each of the 10 U.S. Department of Education regions. Each DBTAC must be designed to contribute to the following outcomes:

(a) Improved understanding about rights and responsibilities under the Americans with Disabilities Act of 1990, as amended, 42 U.S.C. 12101 et seq. (ADA), as well as developments in case law, policy, and implementation through rigorous research and technical assistance activities.

(b) Improved employment outcomes for individuals with disabilities by conducting activities that help to increase accommodations, access to technology, and supports in the workplace, especially in high growth industries.

(c) Enhanced ADA information dissemination, awareness, and referral activities by establishing effective, coordinated local, regional, and national resource networks. The DBTAC will contribute to this outcome by, among other activities, partnering with the DBTAC Coordination, Outreach and Research Center (DBTAC CORC) and other regional DBTACs to develop, implement and evaluate these networks.

(d) Enhanced capacity of entities at the local and State levels and within specific industries to provide technical assistance and training on the ADA through dissemination of information that promotes awareness of the ADA.

(e) Identification of impediments to compliance with the ADA and individuals' access to technology, postsecondary education, and the workforce, and of tested solutions and innovative approaches for eliminating these impediments by conducting targeted, rigorous research activities in at least one of the following areas: Employment, technology and postsecondary education, technology and school-to-work transition, and participation and community living. Research activities require, in the first year of the project period, submission of a preliminary research proposal (i.e., topic, research hypotheses/questions, research design and methodology, and expected outcomes) to the DBTAC CORC for review; the CORC will provide technical assistance for the regional DBTAC research activities and help to identify areas for potential collaborative research. Beginning in the second year of the project period, DBTAC grantees are required to conduct rigorous, high quality research.

(f) Improved research capacity through scientifically-based data collection and analysis leading to identification of research topics and DBTAC CORC development of a preliminary research agenda for consideration by the DBTACs. Grantees must submit their program data and findings to the DBTAC CORC in order to assist the DBTAC CORC with producing evidence reports, identifying gaps in the research agenda where new or additional research is warranted, conducting relevant research, assisting with enhanced understanding of ADA compliance and implementation issues on a national level, and generating topics for a national DBTAC research agenda. The specific research to be conducted by the individual DBTAC will be determined through coordination between the DBTAC and the DBTAC CORC.

(g) Enhanced quality and relevance of information, and dissemination of research-based information by adhering to standards and guidelines that are consistent with evidence-based practices for research dissemination and evaluation (see http://www.cebm.net, http://www.cochrane.org, www.campbellcollaboration.org/guide.flow.pdf, http://www.ngc.gov, http://www.science.gov/), and through coordination with and support of the DBTAC's CORC Review Board.

(h) Improved technical assistance and research capacity through development and application of effective coordination strategies within the network of relevant NIDRR Rehabilitation Research and Training Centers, Rehabilitation Engineering Research Centers, Disability Rehabilitation Research Projects, NIDRR-funded knowledge translation and dissemination centers, employers, industries, community entities, and federally funded programs, such as the Rehabilitation Services Administration (RSA) Assistive Technology (AT) State grants.

(i) Improved knowledge about the provision of ADA and employment-related technical assistance, implementation of the ADA, and employment outcomes through submission of region-specific information and data to the DBTAC CORC for analysis and reporting.

(j) Improved awareness, outreach, and access to technical assistance through clear identification of DBTAC projects leading to enhanced name recognition, including use of a primary identifier (i.e., DBTAC) in project titles. All grantees must provide for the prominent display of the term DBTAC in their project names using the following format: DBTAC—[insert entity title or project name, region, or other identifying information].

Disability Business Technical Assistance Center Coordination, Outreach, and Research Center (DBTAC CORC) Priority: The Assistant Secretary for Special Education and Rehabilitative Services establishes, under its Disability Rehabilitation Research Projects program, a priority for the funding of a Disability Business Technical Assistance Center Coordination, Outreach, and Research Center (DBTAC CORC). The DBTAC CORC must be designed to contribute to the following outcomes:

(a) Improved public access to information relating to the Americans with Disabilities Act of 1990, as amended, 42 U.S.C. 12101 et seq. (ADA), through development and maintenance of a public Web site that includes relevant information that is of national interest and useful across all DBTAC regions, preparation of documents in a format that meets a government or industry-recognized standard for accessibility, and establishment of a DBTAC database to support regional DBTAC activities. The DBTAC CORC also will serve as the central repository for DBTAC information and products, and will be responsible for the maintenance of data products and the content of previously funded ADA document portals and Web sites, and project and national DBTAC databases.

(b) Improved technical assistance, collaboration, information dissemination, knowledge translation and training materials through a national, coordinated process for developing materials to address topics that are relevant across regions; and use of a CORC Review Board to assist with development and review of collaborative products, and research activities.

(c) Increased research capacity building and high quality research through synthesis and analysis of ADA information and data provided by the regional DBTACs, and reviews of literature and related information from other sources, in order to produce evidence reports, generate topics for the regional DBTAC research activities, identify areas where additional research is warranted, conduct relevant research that is consistent with the research activities being implemented as part of the national DBTAC research agenda, and enhance understanding of ADA compliance and implementation issues on a national level.

(d) Enhanced capacity of regional DBTACs to assist with improving employment outcomes, workplace supports and accommodations, and ADA compliance by producing evidence reports, conducting rigorous analyses of regional DBTAC data, and evaluating products and proposed publications. The DBTAC CORC will contribute to this outcome by (1) establishing a DBTAC CORC Review Board composed of expert advisor(s), a methodology consultant, a research consortium coordinator, and research analysts to (i) review regional DBTAC research proposal plans for new research activities, products, and publications; (ii) coordinate potential collaborative research activities; and (iii) conduct systematic reviews of DBTAC research using a set of evidence questions based on scientific studies and standards (see http://www.cebm.net, http://www.cochrane.org, www.campbellcollaboration.org/guide.flow.pdf, http://www.ngc.gov, http://www.science.gov/); (2) establishing guidelines for submission of information to the DBTAC CORC by the regional DBTACs; and (3) providing technical assistance to regional DBTACs.

(e) Improved knowledge of and contribution to the state of the science within the subject areas covered by the regional DBTACs by serving as a consultant to regional DBTACs to support research capacity building, facilitating development of a coordinated national research agenda, assisting to identify proposed research activities that are duplicative; identifying potential collaborative research activities; and working cooperatively with regional DBTAC grantees to assist with the development of research topics and activities. The DBTAC CORC will review research proposal plans submitted by regional DBTACs beginning in the first year of the project period for the purpose of providing technical assistance and to assist with development of scientifically based research activities. The specific research to be conducted by the individual DBTAC will be determined through collaboration between the DBTAC and the DBTAC CORC. The DBTAC CORC will provide on-going technical assistance and support to the regional DBTACs to further ensure high quality, rigorous research activities for the duration of the funded activities.

(f) Enhanced coordination of information dissemination on DBTAC activities, research findings, publications, products, and tools through coordination of the network of appropriate NIDRR research projects, including Rehabilitation Research and Training Centers, Disability Rehabilitation Research Projects, Field-Initiated Projects, Rehabilitation Engineering Research Centers, and NIDRR dissemination centers, including the National Rehabilitation Information Center (www.naric.com) and the National Center for the Dissemination of Disability Research (www.ncddr.org); and other relevant federally supported programs, such as the Rehabilitation Services Administration (RSA) Assistive Technology (AT) State grants.

(g) Increased use of DBTAC-generated products and information by developing strategies to promote the use of developed products and improved relevance and quality of the products through assessment of their effectiveness and impact on practice and policy.

(h) Increased application of research findings and products through translation of DBTAC evidence reports into practice guidelines, quality improvement products, and technical assistance tools.

(i) Enhanced understanding about the state of the science and improved program planning, development, and evaluation by hosting a DBTAC biannual program development and planning meeting beginning in year one of the project period; and an annual conference leading to a report of proceedings in years three through five of the project period.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priorities justify the costs.

Summary of potential costs and benefits: The potential costs associated with these final priorities are minimal while the benefits are significant. Grantees may incur some costs associated with completing the application process in terms of staff time, copying, and mailing or delivery. The use of e-Application technology reduces mailing and copying costs significantly.

The benefits of the Disability and Rehabilitation Research Projects and Centers Programs have been well established over the years in that similar projects have been completed successfully. These final priorities will generate new knowledge and technologies through research, development, dissemination, utilization, and technical assistance projects.

Another benefit of these final priorities is that the establishment of new DRRPs will support the President's NFI and will improve the lives of persons with disabilities. The new DRRPs will generate, disseminate, and promote the use of new information that will improve the options for individuals with disabilities.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133A, Disability Rehabilitation Research Projects)

Program Authority: 29 U.S.C. 762(g) and 764(a).

Dated: June 5, 2006.
John H. Hager,
Assistant Secretary for Special Education and Rehabilitative Services.

[FR Doc. 06-5229 Filed 6-8-06; 8:45 am]

BILLING CODE 4000-01-P